DEPARTMENT OF ENERGY

Federal Energy Regulatory Commission

Combined Notice of Filings

Take notice that the Commission has received the following Natural Gas Pipeline Rate and Refund Report filings:

Filings Instituting Proceedings

Docket Numbers: RP11-2468-000.

Applicants: Colorado Interstate Gas Company.

Description: Colorado Interstate Gas Company's Informational Filing showing Penalties Assessed for the 12-month period ending June 30, 2011.

Filed Date: 08/30/2011.

Accession Number: 20110830-5079.

Comment Date: 5 p.m. Eastern Time on Monday, September 12, 2011.

Docket Numbers: RP11-2469-000.

Applicants: Eastern Shore Natural Gas Company.

Description: Eastern Shore Natural Gas Company submits tariff filing per 154.402: 2011 ACA Filing to be effective 10/1/2011.

Filed Date: 08/30/2011.

Accession Number: 20110830-5130.

Comment Date: 5 p.m. Eastern Time on Monday, September 12, 2011.

Docket Numbers: RP11-2470-000.

Applicants: Transcontinental Gas Pipe Line Company, LLC.

Description: Transcontinental Gas Pipe Line Company, LLC submits tariff filing per 154.204: Pascagoula Expansion Non-Conforming Service Agreement to be effective 9/30/2011.

Filed Date: 08/30/2011.

Accession Number: 20110830-5149.

Comment Date: 5 p.m. Eastern Time on Monday, September 12, 2011.

Docket Numbers: RP11-2471-000.

Applicants: Transcontinental Gas Pipe Line Company,

Description: Transcontinental Gas Pipe Line Company, LLC submits tariff filing per 154.204: Update List of Non-Conforming Service Agreements (Angola LNG) to be effective 9/30/2011.

Filed Date: 08/31/2011.

Accession Number: 20110831-5001.

Comment Date: 5 p.m. Eastern Time on Monday, September 12, 2011.

Docket Numbers: RP11-2472-000.

Applicants: Gulf South Pipeline Company, LP.

Description: Gulf South Pipeline Company, LP submits tariff filing per 154.204: Small Customer Renewal Filing to be effective 10/1/2011.

Filed Date: 08/31/2011.

Accession Number: 20110831-5027.

Comment Date: 5 p.m. Eastern Time on Monday, September 12, 2011.

Docket Numbers: RP11-2473-000.

Applicants: Gulf South Pipeline Company, LP.

Description: Gulf South Pipeline Company, LP submits tariff filing per 154.501: 2011 Cash In/Cash/Out Filing to be effective N/A.

Filed Date: 08/31/2011.

Accession Number: 20110831-5028.

Comment Date: 5 p.m. Eastern Time on Monday, September 12, 2011.

Docket Numbers: RP11-2474-000.

Applicants: Gulf Crossing Pipeline Company LLC.

Description: Gulf Crossing Pipeline Company LLC submits tariff filing per 154.501: 2011 Cash/In/Cash/Out Report Filing to be effective N/A.

Filed Date: 08/31/2011.

Accession Number: 20110831-5029.

Comment Date: 5 p.m. Eastern Time on Monday, September 12, 2011.

Docket Numbers: RP11-2475-000.

Applicants: Williston Basin Interstate Pipeline Comp.

Description: Williston Basin Interstate Pipeline Company submits tariff filing per 154.204: ACA Filing to be effective 10/1/2011.

Filed Date: 08/31/2011.

Accession Number: 20110831-5035.

Comment Date: 5 p.m. Eastern Time on Monday, September 12, 2011.

Docket Numbers: RP11-2476-000.

Applicants: Williston Basin Interstate Pipeline Company

Description: Williston Basin Interstate Pipeline Company submits tariff filing per 154.204: Semi-annual Fuel & Electric Power Reimbursement to be effective 10/1/2011.

Filed Date: 08/31/2011.

Accession Number: 20110831-5037.

Comment Date: 5 p.m. Eastern Time on Monday, September 12, 2011.

Docket Numbers: RP11-2477-000.

Applicants: Williston Basin Interstate Pipeline Company.

Description: Williston Basin Interstate Pipeline Company submits tariff filing per 154.204: Housekeeping/Service Agreement Filing to be effective 10/1/2011.

Filed Date: 08/31/2011.

Accession Number: 20110831-5038.

Comment Date: 5 p.m. Eastern Time on Monday, September 12, 2011.

Docket Numbers: RP11-2478-000.

Applicants: MoGas Pipeline LLC.

Description: MoGas Pipeline LLC submits tariff filing per 154.402: ACA Filing to be effective 10/1/2011.

Filed Date: 08/31/2011.

Accession Number: 20110831-5041.

Comment Date: 5 p.m. Eastern Time on Monday, September 12, 2011.

Docket Numbers: RP11-2479-000.

Applicants: MoGas Pipeline LLC.

Description: MoGas Pipeline LLC submits tariff filing per 154.403(d)(2): Annual Fuel and Gas Loss Retention Percentage Adjustment to be effective 10/1/2011.

Filed Date: 08/31/2011.

Accession Number: 20110831-5042.

Comment Date: 5 p.m. Eastern Time on Monday, September 12, 2011.

Docket Numbers: RP11-2480-000.

Applicants: Steuben Gas Storage Company.

Description: Steuben Gas Storage Company submits tariff filing per 154.402: 2011 Annual Charge Adjustment Filing of Steuben Gas Storage Company to be effective 10/1/2011.

Filed Date: 08/31/2011.

Accession Number: 20110831-5043.

Comment Date: 5 p.m. Eastern Time on Monday, September 12, 2011.

Docket Numbers: RP11-2481-000.

Applicants: Dauphin Island Gathering Partners.

Description: Dauphin Island Gathering Partners submits tariff filing per 154.402: ACA 2011 to be effective 10/1/2011.

Filed Date: 08/31/2011.

Accession Number: 20110831-5044.

Comment Date: 5 p.m. Eastern Time on Monday, September 12, 2011.

Docket Numbers: RP11-2482-000.

Applicants: Cimarron River Pipeline, LLC.

Description: Cimarron River Pipeline, LLC submits tariff filing per 154.402: ACA 2011 to be effective 10/1/2011.

Filed Date: 08/31/2011.

Accession Number: 20110831-5045.

Comment Date: 5 p.m. Eastern Time on Monday, September 12, 2011.

Docket Numbers: RP11-2483-000.

Applicants: Discovery Gas Transmission LLC.

Description: Discovery Gas Transmission LLC submits tariff filing per 154.402: 2011 ACA Tariff Filing to be effective 10/1/2011.

Filed Date: 08/31/2011.

Accession Number: 20110831-5046.

Comment Date: 5 p.m. Eastern Time on Monday, September 12, 2011.

Docket Numbers: RP11-2484-000.

Applicants: Northern Natural Gas Company.

Description: Northern Natural Gas Company submits tariff filing per 154.402: 20110829 2011 ACA Filing to be effective 10/1/2011.

Filed Date: 08/31/2011.

Accession Number: 20110831-5049.

Comment Date: 5 p.m. Eastern Time on Monday, September 12, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 31, 2011.
Nathaniel J. Davis, Sr.,
Deputy Secretary.

[FR Doc. 2011-22803 Filed 9-6-11; 8:45 am]

BILLING CODE 6717-01-P